DEPARTMENT OF ENERGY

Federal Energy Regulatory Commission

Combined Notice of Filings #1

Take notice that the Commission received the following electric corporate filings:

Docket Numbers: EC20-100-000.

Applicants: Tilton Energy LLC.

Description: Application for Authorization Under Section 203 of the Federal Power Act, et al. of Tilton Energy LLC.

Filed Date: 9/11/20.

Accession Number: 20200911-5207.

Comments Due: 5 p.m. ET 10/2/20.

Docket Numbers: EC20-101-000.

Applicants: Chief Conemaugh Power, LLC, Chief Keystone Power, LLC, Riverstone Holdings LLC.

Description: Application for Authorization Under Section 203 of the Federal Power Act, et al. of Chief Conemaugh Power, LLC, et al.

Filed Date: 9/11/20.

Accession Number: 20200911-5213.

Comments Due: 5 p.m. ET 10/2/20.

Take notice that the Commission received the following exempt wholesale generator filings:

Docket Numbers: EG20-242-000.

Applicants: Weaver Wind Maine Master Tenant, LLC.

Description: Notice of Self-Certification of Exempt Wholesale Generator Status of Weaver Wind Maine Master Tenant, LLC.

Filed Date: 9/10/20.

Accession Number: 20200910-5152.

Comments Due: 5 p.m. ET 10/1/20.

Docket Numbers: EG20-243-000.

Applicants: Weaver Wind, LLC.

Description: Notice of Self-Certification of Exempt Wholesale Generator Status of Weaver Wind, LLC.

Filed Date: 9/10/20.

Accession Number: 20200910-5156.

Comments Due: 5 p.m. ET 10/1/20.

Docket Numbers: EG20-244-000.

Applicants: Harts Mill Solar, LLC.

Description: Notice of Self-Certification as Exempt Wholesale Generator of Harts Mill Solar, LLC.

Filed Date: 9/11/20.

Accession Number: 20200911-5045.

Comments Due: 5 p.m. ET 10/2/20.

Take notice that the Commission received the following electric rate filings:

Docket Numbers: ER17-1428-004.

Applicants: Tilton Energy LLC.

Description: Compliance filing: Informational Filing Pursuant to Schedule 2 of the MISO OATT to be effective N/A.

Filed Date: 9/11/20.

Accession Number: 20200911-5244.

Comments Due: 5 p.m. ET 10/2/20.

Docket Numbers: ER20-1657-001.

Applicants: Mechanicsville Solar, LLC.

Description: Notice of Change in Status of Mechanicsville Solar, LLC.

Filed Date: 9/9/20.

Accession Number: 20200909-5197.

Comments Due: 5 p.m. ET 9/30/20.

Docket Numbers: ER20-2622-001.

Applicants: Wilmot Energy Center, LLC.

Description: Tariff Amendment: Wilmot Energy Center, LLC Amendment to MBR Application to be effective 10/5/2020.

Filed Date: 9/10/20.

Accession Number: 20200910-5183.

Comments Due: 5 p.m. ET 10/1/20.

Docket Numbers: ER20-2715-001.

Applicants: Stored Solar, LLC.

Description: Tariff Amendment: Amendment to 1 to be effective 8/24/2020.

Filed Date: 9/11/20.

Accession Number: 20200911-5270.

Comments Due: 5 p.m. ET 10/2/20.

Docket Numbers: ER20-2858-000.

Applicants: FPL Energy Burleigh County Wind, LLC.

Description: Tariff Cancellation: FPL Energy Burleigh County Wind, LLC, Notice of Cancellation of MBR Tariff to be effective 9/11/2020.

Filed Date: 9/10/20.

Accession Number: 20200910-5206.

Comments Due: 5 p.m. ET 10/1/20.

Docket Numbers: ER20-2859-000.

Applicants: FPL Energy Oklahoma Wind, LLC.

Description: Tariff Cancellation: FPL Energy Oklahoma Wind, LLC Notice of Cancellation of MBR Tariff to be effective 9/11/2020.

Filed Date: 9/10/20.

Accession Number: 20200910-5210.

Comments Due: 5 p.m. ET 10/1/20.

Docket Numbers: ER20-2860-000.

Applicants: FPL Energy Sooner Wind, LLC.

Description: Tariff Cancellation: FPL Energy Sooner Wind, LLC Notice of Cancellation of MBR Tariff to be effective 9/11/2020.

Filed Date: 9/10/20.

Accession Number: 20200910-5211.

Comments Due: 5 p.m. ET 10/1/20.

Docket Numbers: ER20-2861-000.

Applicants: Southern California Edison Company.

Description: Petition for Waiver of Tariff Provisions, et al. of Southern California Edison Company.

Filed Date: 9/10/20.

Accession Number: 20200910-5240.

Comments Due: 5 p.m. ET 9/21/20.

Docket Numbers: ER20-2862-000.

Applicants: HDSI, LLC.

Description: Baseline eTariff Filing: Certificate of Concurrence for Co-Tenancy and Shared Facilities Agreement to be effective 11/11/2020.

Filed Date: 9/11/20.

Accession Number: 20200911-5037.

Comments Due: 5 p.m. ET 10/2/20.

Docket Numbers: ER20-2863-000.

Applicants: Florida Power & Light Company.

Description: Compliance filing: FPL & LCEC Amendments to Rate Schedule FERC No. 317 to be effective 12/31/9998.

Filed Date: 9/11/20.

Accession Number: 20200911-5146.

Comments Due: 5 p.m. ET 10/2/20.

Docket Numbers: ER20-2864-000.

Applicants: Florida Power & Light Company.

Description: § 205(d) Rate Filing: FPL & FKEC Amendments to Rate Schedule FERC No. 322 to be effective 12/31/9998.

Filed Date: 9/11/20.

Accession Number: 20200911-5160.

Comments Due: 5 p.m. ET 10/2/20.

Docket Numbers: ER20-2865-000.

Applicants: 64NB 8me LLC.

Description: Baseline eTariff Filing: Application for Market-Based Rate Authority to be effective 10/1/2020.

Filed Date: 9/11/20.

Accession Number: 20200911-5166.

Comments Due: 5 p.m. ET 10/2/20.

Docket Numbers: ER20-2866-000.

Applicants: 91MC 8me, LLC.

Description: Baseline eTariff Filing: Application For Market-Based Rate Authority to be effective 10/1/2020.

Filed Date: 9/11/20.

Accession Number: 20200911-5175.

Comments Due: 5 p.m. ET 10/2/20.

Docket Numbers: ER20-2867-000.

Applicants: Public Service Company of Colorado.

Description: § 205(d) Rate Filing: 2020-09-11_PSC-CSU-NonConf SISA-605-0.0.0-Filing to be effective 9/12/2020.

Filed Date: 9/11/20.

Accession Number: 20200911-5176.

Comments Due: 5 p.m. ET 10/2/20.

Docket Numbers: ER20-2868-000.

Applicants: UNS Electric, Inc.

Description: § 205(d) Rate Filing: Round Valley Interconnection Agreement (R.S. 8) to be effective 11/11/2020.

Filed Date: 9/11/20.

Accession Number: 20200911-5181.

Comments Due: 5 p.m. ET 10/2/20.

Docket Numbers: ER20-2869-000.

Applicants: ISO New England Inc., New England Power Pool Participants Committee.

Description: § 205(d) Rate Filing: Improvements to Reconstitution of Passive Demand Resource in Gross Load Forecast to be effective 11/10/2020.

Filed Date: 9/11/20.

Accession Number: 20200911-5197.

Comments Due: 5 p.m. ET 10/2/20.

Docket Numbers: ER20-2870-000.

Applicants: Midcontinent Independent System Operator, Inc, Duke Energy Indiana, LLC.

Description: § 205(d) Rate Filing: 2020-09-11_SA 1391 Duke-Vectren 5th Rev IA to be effective 11/11/2020.

Filed Date: 9/11/20.

Accession Number: 20200911-5229.

Comments Due: 5 p.m. ET 10/2/20.

Docket Numbers: ER20-2871-000.

Applicants: Tri-State Generation and Transmission Association, Inc.

Description: § 205(d) Rate Filing: Rate Schedule FERC No. 312 between Tri-State and EEA to be effective 12/31/9998.

Filed Date: 9/11/20.

Accession Number: 20200911-5256.

Comments Due: 5 p.m. ET 10/2/20.

Take notice that the Commission received the following electric reliability filings:

Docket Numbers: RR20-7-000.

Applicants: North American Electric Reliability Corporation.

Description: Petition of The North American Electric Reliability Corporation for Approval of Amendments to the Northeast Power Coordinating Council Regional Standard Processes Manual.

Filed Date: 9/10/20.

Accession Number: 20200910-5264.

Comments Due: 5 p.m. ET 10/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2020.
Nathaniel J. Davis, Sr.,
Deputy Secretary.

[FR Doc. 2020-20531 Filed 9-16-20; 8:45 am]

BILLING CODE 6717-01-P